DEPARTMENT OF AGRICULTURE

Forest Service

Ravalli County Resource Advisory Committee

AGENCY: Forest Service, USDA.

ACTION: Notice of meeting.

SUMMARY: The Ravalli County Resource Advisory Committee will meet in Hamilton, Montana. The purpose of the meeting is to review proposed projects for funding.

DATES: The meeting will be held August 21, 2012 at 6:30 p.m.

ADDRESSES: The meeting will be held at 1801 N. First Street, Hamilton, MT. Written comments should be sent to Bitterroot National Forest Supervisor's Office, Attn: Joni Lubke; 1801 N. First Street, Hamilton, MT 59840. Comments may also be sent via email to jmlubke@fs.fed.us or via facsimile to 406-363-7159.

All comments, including names and addresses when provided, are placed in the record and are available for public inspection and copying. The public may inspect comments received at the Bitterroot National Forest Supervisor's Office. Visitors are encouraged to call ahead to 406-363-7100 to facilitate entry into the building.

FOR FURTHER INFORMATION CONTACT: Dan Ritter at 406-777-5461 or Joni Lubke at 406-363-7100.

Individuals who use telecommunication devices for the deaf (TDD) may call the Federal Information Relay Service (FIRS) at 1-800-877-8339 between 8:00 a.m. and 8:00 p.m., Mountain Standard Time, Monday through Friday.

SUPPLEMENTARY INFORMATION: The meeting is open to the public. Committee discussion is limited to Forest Service staff and Committee members. However, persons who wish to bring any matters to the attention of the Committee may file written statements with the Committee staff before or after the meeting. Public input sessions will be provided and individuals who made written requests by August 15, 2012 will have the opportunity to address the Committee at those sessions.

Dated: July 31, 2012.
Julie K. King,
Forest Supervisor.

[FR Doc. 2012-19097 Filed 8-3-12; 8:45 am]

BILLING CODE 3410-11-P